DEPARTMENT OF TRANSPORTATION

Federal Motor Carrier Safety Administration

[Docket No. FMCSA-2025-0003]

Agency Information Collection Activities; Renewal of an Approved Information Collection: Transportation of Household Goods; Consumer Protection

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests OMB's renewed approval of the ICR titled “Transportation of Household Goods; Consumer Protection,” which applies to household goods motor carriers who are procured by the public (household goods shippers) to transport their household goods. This renewal revises the previous information collection's number of respondents, total respondent hours, and cost burden.

DATES: Comments on this notice must be received on or before March 17, 2025.

ADDRESSES: You may submit comments identified by Docket Number FMCSA-2025-0003 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Donnice Wagoner, Commercial Enforcement Division, DOT, FMCSA, West Building, 6th Floor, 1200 New Jersey Avenue SE, Washington, DC 20590-0001; (202) 366-8045; Donnice.Wagoner@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0003), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0003/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

On July 12, 2005, FMCSA published a final rule titled “Transportation of Household Goods; Consumer Protection Regulations,” (70 FR 39949), which specifies how motor carriers transporting household goods by motor vehicle in interstate commerce must assist their individual customers who ship household goods. The collected information encompasses that which is generated, maintained, and provided to, or for, the Agency under 49 CFR part 375.

On August 10, 2005, the President signed into law the Safe, Accountable, Flexible, Efficient Transportation Equity Act: A Legacy for Users ((SAFETEA-LU), Pub. L. 109-59, 119 Stat. 1144, Aug. 10, 2005). The Agency consequently revised this ICR to address these statutory impacts in a final rule titled “Amendments to Implement Certain Provisions of the Safe, Accountable, Flexible, Efficient Transportation Act: A Legacy for Users (SAFETEA-LU)” (72 FR 36760, July 5, 2007). Section 4205 of SAFETEA-LU amended 49 U.S.C. 14104(b) by requiring the household goods motor carrier to conduct a physical survey of the household goods to be transported on behalf of the individual shipper. The carrier must then provide the shipper with a written estimate, based on the physical survey, of charges for the transportation and all related services.

On July 16, 2012, FMCSA published a direct final rule titled “Transportation of Household Goods in Interstate Commerce; Consumer Protection Regulations: Household Goods Motor Carrier Record Retention Requirements” (77 FR 41699) that amended the regulations governing the period during which household goods motor carriers must retain documentation of an individual shipper's waiver of receipt of printed copies of consumer protection materials. In the rulemaking, FMCSA reduced the 3-year required retention period for those receipts to one year. This change harmonizes the retention period with other document retention requirements applicable to household goods motor carriers. FMCSA also amended the regulations to clarify that a household goods motor carrier is not required to retain waiver documentation from any individual shippers for whom the carrier does not actually provide services.

On April 26, 2022, FMCSA updated the regulations at 49 CFR parts 371 and 375 in a final rule titled “Implementation of Household Goods Working Group Recommendations” (87 FR 24431). The final rule made various changes to the household goods regulations that the Household Goods Consumer Protection Working Group recommended to FMCSA. These changes include further revisions to streamline FMCSA's publication “Your Rights and Responsibilities When You Move,” which are incorporated in Appendix A of the regulations, requiring “Your Rights and Responsibilities When You Move” to be provided along with the estimate, requiring new binding or non-binding estimates when an individual shipper tenders more goods or requests additional service instead of a revised estimate as previously required, allowing a motor carrier to provide a virtual survey and removing the 50-mile radius for when a survey is required, removing the requirement for an order for service and incorporating that document into the bill of lading, as well as other minor updates to increase the clarity of the regulations. These changes are intended to reduce the paperwork burden on household goods motor carriers and reduce confusion for individual shippers.

The complete collection of information required by the referenced final rules assists household goods shippers in their business dealings with interstate household goods motor carriers. The information collected is used by prospective household goods shippers to make informed decisions about contracts and services ordered, executed, and settled. The household goods motor carrier is often the final contact for individual shippers and is in the best position to educate and assist household goods shippers during their move. This information collection is intended to combat deceptive business practices by requiring household goods motor carriers to conduct physical surveys of shippers' items to be transported unless waived in writing by the shipper. This information collection is intended to combat deceptive business practices by requiring the household goods motor carrier to prepare an inventory of the goods shipped and a bill of lading for each shipment. This information collection also requires motor carriers to obtain weight tickets for each shipment. This information collection requires household goods motor carriers to generate and maintain additional documents associated with the status of shipment delays and to furnish shippers, upon request, the records of contact regarding delays. This information collection requires household goods motor carriers to keep written or electronic records of all complaints received from shippers. This information collection helps enforcement personnel better protect consumers by verifying that shippers are receiving information as required by regulations.

FMCSA revises the total annual burden to 3,722,704 hours. This is an increase of 14,609 annual burden hours from the currently approved 3,708,095 burden estimates. The increase is due to an increase in Agency estimates.

Title: Transportation of Household Goods; Consumer Protection.

OMB Control Number: 2126-0025.

Type of Request: Renewal of a currently approved collection.

Respondents: Household goods motor carriers.

Estimated Number of Respondents: 7,861.

Estimated Time per Response: Varies.

Expiration Date: July 31, 2025.

Frequency of Response: On occasion.

Estimated Total Annual Burden: 3,722,704 hours. The estimated total annual burden was calculated using the hourly burden for each of the five Information Collections.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2025-00819 Filed 1-14-25; 8:45 am]

BILLING CODE 4910-EX-P